FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than April 13, 2007.

A. Federal Reserve Bank of New York (Anne McEwen, Financial Specialist) 33 Liberty Street, New York, New York 10045-0001:

1. The Bank of New York Mellon Corporation, New York, New York; to become a bank holding company by acquiring and merging with The Bank of New York Company, Inc., New York, New York, and thereby indirectly acquire The Bank of New York, New York, New York; B.N.Y. Holdings (Delaware) Corporation, Newark, Delaware; The Bank of New York (Delaware), Newark, Delaware; Mellon Financial Corporation, Pittsburgh, Pennsylvania; Mellon Bank, N.A., Pittsburgh, Pennsylvania; Mellon United National Bank, Miami, Florida; Mellon 1st Business Bank, National Association, Los Angeles, California; and Mellon Trust of New England, N.A., Boston, Massachusetts.

B. Federal Reserve Bank of Chicago (Patrick M. Wilder, Assistant Vice President) 230 South LaSalle Street, Chicago, Illinois 60690-1414:

1. 1st Source Corporation, South Bend, Indiana; to acquire 100 percent of the voting shares of FINA Bancorp, Inc., Valparaiso, Indiana, and thereby indirectly acquire First National Bank of Valparaiso, Valparaiso, Indiana.

C. Federal Reserve Bank of San Francisco (Tracy Basinger, Director, Regional and Community Bank Group) 101 Market Street, San Francisco, California 94105-1579:

1. Belvedere SoCal, San Francisco, California; to become a bank holding company by acquiring 100 percent of the voting shares of Professional Business Bank, Pasadena, California. In connection with this application, Belvedere Capital Partners II, LLC, and Belvedere Capital Fund II, LP, San Francisco, California, will indirectly acquire up to 58 percent of the voting shares of Professional Business Bank, Pasadena, California.

Board of Governors of the Federal Reserve System, March 14, 2007.
Robert deV. Frierson,
Deputy Secretary of the Board.

[FR Doc. E7-4980 Filed 3-19-07; 8:45 am]

BILLING CODE 6210-01-S